DEPARTMENT OF STATE

[Public Notice: 10408]

Notice of Charter Renewal

The Department of State has renewed the Charter of the Advisory Committee on Cyber and International Communications and Information Policy (ACCICIP) for a period of two years. The name of the Committee has been changed to reflect the combined oversight of cyber and international information and communications policy issues within the Department of State by including the word “Cyber.”

The Committee serves the Department of State in a solely advisory capacity regarding current issues and concerns affecting cyber and international communications and information policy. ACCICIP members are private sector communications and information technology policy specialists from U.S. telecommunications companies, trade associations, policy institutions, and academia.

For further information, please call Joseph Burton, Executive Secretary, Advisory Committee on Cyber and International Communications and Information Policy, Division of International Communications and Information Policy, Economic and Business Affairs Bureau, U.S. Department of State at (202) 647-5231.

Douglas C. May,
Director, Technology & Security Policy, International Communications and Information Policy, Department of State.

[FR Doc. 2018-10282 Filed 5-14-18; 8:45 am]

BILLING CODE 4710-AE-P